ENVIRONMENTAL PROTECTION AGENCY

[FRL-7785-4]

Notification of an Upcoming Closed Meeting of the Science Advisory Board's Scientific and Technology Achievement of Awards Subcommittee—Closed Meeting

AGENCY: Environmental Protection Agency (EPA).

ACTION: Notice.

SUMMARY: The Environmental Protection Agency (EPA), Science Advisory Board (SAB) Staff Office announces a closed meeting of the Scientific and Technological Achievement Awards Subcommittee to recommend to the Assistant Administrator of the Office of Research and Development (ORD) the recipients of the Agency's 2004 Scientific and Technological Achievement Cash Awards.

DATES: August 10-12, 2004.

ADDRESSES: This closed meeting will take place at the U.S. Environmental Protection Agency, Science Advisory Board Conference Center, 1025 F Street, NW., Washington, DC.

FOR FURTHER INFORMATION CONTACT: Members of the public who wish to obtain further information regarding this announcement may contact Ms. Kathleen White, Designated Federal Officer, by telephone: (202) 343-9878 or e-mail at: white.kathleen@epa.gov.

The SAB Mailing address is: US EPA Science Advisory Board (1400F), U.S. Environmental Protection Agency, 1200 Pennsylvania Ave, NW., Washington, DC 20460. General information about the SAB as well as any updates concerning the meeting announced in this notice, may be found in the SAB Web site at: http://www.epa.gov/sab.

SUPPLEMENTARY INFORMATION: Summary: Pursuant to Section 10(d) of the Federal Advisory Committee Act (FACA), 5 U.S.C. App. 2, and section (c)(6) of the Government in the Sunshine Act, 5 U.S.C. 552b(c)(6), EPA has determined that the meeting will be closed to the public. The purpose of the meeting is to recommend to the Assistant Administrator of ORD the recipients of the Agency's 2004 Scientific and Technological Achievement Cash Awards. These awards are established to honor and recognize EPA employees who have made outstanding contributions in the advancement of science and technology through their research and development activities, as exhibited by publication of their results in peer reviewed journals. In making these recommendations, including the actual cash amount of each award, the Agency requires full and frank advice from the SAB. This advice will involve professional judgments on the relative merits of various employees and their respective work. Such personnel issues, where disclosure of information of a personal nature would constitute an unwarranted invasion of personal privacy, are protected from disclosure by section (c)(6) of the Government in the Sunshine Act, 5 U.S.C. 552b(c)(6). In accordance with the provisions of the Federal Advisory Committee Act, minutes of the meeting will be kept for Agency and Congressional review.

Dated: June 25, 2004.
Michael O. Leavitt,
Administrator.

[FR Doc. 04-15616 Filed 7-8-04; 8:45 am]

BILLING CODE 6560-50-M